DEPARTMENT OF TRANSPORTATION

Pipeline and Hazardous Materials Safety Administration

49 CFR Part 192

[Docket ID PHMSA-2011-0009]

RIN 2137-AE71

Pipeline Safety: Expanding the Use of Excess Flow Valves in Gas Distribution Systems to Applications Other Than Single-Family Residences

AGENCY: Pipeline and Hazardous Materials Safety Administration (PHMSA); DOT.

ACTION: Advance notice of proposed rulemaking; extension of comment period.

SUMMARY: On November 25, 2011, PHMSA published in the Federal Register an Advance Notice of Proposed Rulemaking (ANPRM), titled: “Pipeline Safety: Expanding the Use of Excess Flow Valves (EFVs) in Gas Distribution Systems to Applications Other Than Single-Family Residences.” The ANPRM sought public comment on several issues related to expanding the use of EFVs in gas distribution systems. On January 10, 2012, PHMSA received a request to extend the comment period to provide additional time to respond to the ANPRM. In light of that request, PHMSA is extending the comment period from February 18, 2012, to March 19, 2012.

DATES: The closing date for filing comments is extended from February 18, 2012, until March 19, 2012.

ADDRESSES: Comments should reference Docket No. PHMSA-2011-0009 and may be submitted in the following ways:

• E-Gov Web Site: http://www.Regulations.gov. This site allows the public to enter comments on any Federal Register notice issued by any agency.

• Fax: 1-(202) 493-2251.

• Mail: DOT Docket Management System: U.S. DOT, Docket Operations, M-30, West Building Ground Floor, Room W12-140, 1200 New Jersey Avenue SE., Washington, DC 20590-0001.

• Hand Delivery: U.S. DOT Docket Management System; West Building Ground Floor, Room W12-140, 1200 New Jersey Avenue SE., Washington, DC 20590-0001 between 9 a.m. and 5 p.m., Monday through Friday, except Federal holidays.

Instructions: You should identify the Docket No. PHMSA-2011-0009 at the beginning of your comments. If you submit your comments by mail, submit two copies. To receive confirmation that PHMSA received your comments, include a self-addressed stamped postcard. Internet users may submit comments at http://www.regulations.gov.

Note: Comments are posted without changes or edits to http://www.regulations.gov, including any personal information provided. There is a privacy statement published on http://www.regulations.gov.

FOR FURTHER INFORMATION CONTACT: For further information contact Mike Israni at (202) 366-4566 or by email at mike.israni@dot.gov.

SUPPLEMENTARY INFORMATION: The National Transportation Safety Board has made a safety recommendation (P-01-02) to PHMSA that EFVs be installed in all new and renewed gas service lines, regardless of a customer's classification, when the operating conditions are compatible with readily available valves. In response to that recommendation, on November 25, 2011, PHMSA published in the Federal Register an ANPRM titled: “Pipeline Safety: Expanding the Use of Excess Flow Valves in Gas Distribution Systems to Applications Other Than Single-Family Residences” (76 FR 72666). The ANPRM sought public comment on several issues related to expanding the use of EFVs in gas distribution systems. PHMSA also sought comment from gas distribution system operators on their experiences using EFVs, particularly from a cost-benefit perspective.

On January 10, 2012, the American Gas Association (AGA) and the American Public Gas Associations (APGA) asked PHMSA to extend the ANPRM comment period by at least 30 days. AGA and APGA stated that the depth and scope of the ANPRM requires that stakeholders have substantially more time to respond. AGA and APGA further stated that the existence of two other significant PHMSA rulemakings open for comment and the recent passage of the Pipeline Safety, Regulatory Certainty, and Job Creation Act of 2011 (PL112-90), have imposed additional demands on their resources for analysis.

PHMSA has posed important questions in the ANPRM on the technical challenges and potential costs and benefits of expanding the use of EFV applications beyond single family residences. Expanded use of EFVs, if implemented, could impose significant cost on the pipeline industry. PHMSA needs thorough responses to the ANPRM to facilitate its consideration of these important and complex issues. Accordingly, PHMSA is granting the request filed by AGA and APGA and extending the comment period from February 18, 2012, to March 19, 2012.

Issued in Washington, DC, on January 30, 2012.
Jeffrey D. Wiese,
Associate Administrator for Pipeline Safety.

[FR Doc. 2012-2518 Filed 2-2-12; 8:45 am]

BILLING CODE 4910-60-P